DEPARTMENT OF COMMERCE

International Trade Administration

[C-533-829]

Final Affirmative Countervailing Duty Determination: Prestressed Concrete Steel Wire Strand From India

AGENCY: Import Administration, International Trade Administration, Department of Commerce.

ACTION: Notice of final affirmative countervailing duty investigation.

SUMMARY: On July 8, 2003, the Department of Commerce (the Department) published in the Federal Register its preliminary affirmative determination in the countervailing duty investigation of prestressed concrete steel wire strand (PC strand or subject merchandise) from India for the period April 1, 2001, through March 31, 2002.

The program rates determined in this final determination do not differ from those determined in the preliminary determination. The final net rate for all Indian producers/exporters of subject merchandise is listed below in the “Suspension of Liquidation” section of this notice.

EFFECTIVE DATE: December 8, 2003.

FOR FURTHER INFORMATION CONTACT: Robert Copyak at (202) 482-2209 or Alicia Kinsey at (202) 482-4793, Office of AD/CVD Enforcement VI, Group II, Import Administration, International Trade Administration, U.S. Department of Commerce, Room 4012, 14th Street and Constitution Avenue, NW., Washington, DC 20230.

SUPPLEMENTARY INFORMATION:

Background

The petition in this investigation was filed by American Spring Wire Corp., Insteel Wire Products Company, and Sumiden Wire Products Corp. (collectively, the petitioners). On July 8, 2003, the Department published the preliminary determination. See Notice of Preliminary Affirmative Countervailing Duty Determination: Prestressed Concrete Steel Wire Strand from India, 68 FR 40629 (July 8, 2003) (Preliminary Determination), which is on file in room B-099 in the Central Records Unit of the main Commerce building (CRU).

In accordance with section 705(a)(1) of the Tariff Act of 1930, as amended (the Act), we aligned this final determination with the final determination in the antidumping duty investigation of PC strand from India. See Preliminary Determination, 68 FR 40629, 40631. We invited interested parties to comment on the Department's findings in the Preliminary Determination. On August 27, 2003, we received comments from petitioners supporting the Department's preliminary analysis. We received no other comments. This investigation covers all producers/exporters of subject merchandise in India for the period April 1, 2001, through March 31, 2002.

Scope of the Investigation

The merchandise subject to this investigation is prestressed concrete steel wire (PC strand), which is steel strand produced from wire of non-stainless, non-galvanized steel, which is suitable for use in prestressed concrete (both pre-tensioned and post-tensioned) applications. The product definition encompasses covered and uncovered strand and all types, grades, and diameters of PC strand.

The merchandise under this investigation is currently classifiable under subheadings 7312.10.3010 and 7312.10.3012 of the Harmonized Tariff Schedule of the United States (HTSUS). Although the HTSUS subheadings are provided for convenience and customs purposes, the written description of the merchandise under investigation is dispositive.

Analysis of Comments Received

The Department's positions on the subsidy programs addressed in this case are discussed the “Issues and Decision Memorandum” (Decision Memorandum) from Holly A. Kuga, Acting Deputy Assistant Secretary, AD/CVD Enforcement II, to James J. Jochum, Assistant Secretary for Import Administration, dated December 1, 2003, which is hereby adopted by this notice. This public memorandum, which is on file in the CRU, also contains the recommended adverse facts available program rates and the adverse facts available total net subsidy rate. A complete version of the Decision Memorandum can be accessed on the World Wide Web at http://www.ia.ita.doc.gov, under the heading “Federal Register Notices.” The paper copy on file in the CRU and the electronic version of the Decision Memorandum are identical in content.

Suspension of Liquidation

In accordance with section 703(b) of the Act, we have calculated the following countervailing duty rate for all Indian producers/exporters of subject merchandise:

Producer/exporter | Net subsidy rate
All producers/exporters | 62.92% ad valorem

In accordance with our preliminary affirmative determination, we instructed U.S. Customs and Border Protection (CBP) to suspend liquidation of all entries of prestressed concrete steel wire strand from India, which were entered or withdrawn from warehouse, for consumption on or after July 8, 2003, the date of the publication of our preliminary determination in the Federal Register. In accordance with section 703(d) of the Act, we instructed the CBP to discontinue the suspension of liquidation for merchandise entered on or after November 5, 2003, but to continue the suspension of liquidation of entries made between July 8, 2003, and November 4, 2003.

If the International Trade Commission (ITC) issues a final affirmative injury determination, we will issue a countervailing duty order, reinstate suspension of liquidation under section 706(a) of the Act for all entries, and require a cash deposit of estimated countervailing duties for such entries of merchandise in the amount indicated above. If the ITC determines that material injury, or threat of material injury, does not exist, this proceeding will be terminated and all estimated duties deposited or securities posted as a result of the suspension of liquidation will be refunded or canceled.

ITC Notification

In accordance with section 705(d) of the Act, we will notify the ITC of our determination. In addition, we are making available to the ITC all non-privileged and non-proprietary information related to this investigation. We will allow the ITC access to all privileged and business proprietary information in our files, provided that the ITC confirms that it will not disclose such information, either publicly or under an administrative protective order (APO), without the written consent of the Assistant Secretary for Import Administration.

Return or Destruction of Proprietary Information

In the event that the ITC issues a final negative injury determination, this notice will serve as the only reminder to parties subject to APO of their responsibility concerning the destruction of proprietary information disclosed under APO in accordance with 19 CFR 351.305(a)(3). Failure to comply is a violation of the APO.

This determination is published pursuant to sections 705(d) and 777(i) of the Act.

Dated: December 1, 2003.
James J. Jochum,
Assistant Secretary for Import Administration.

Appendix I—Issues and Decision Memorandum

Summary

Methodology and Background Information

I. Use of Facts Available

II. Programs Determined to Confer Subsidies

A. Government of India Programs

1. Pre-shipment and Post-shipment Export Financing

2. Duty Entitlement Passbook Scheme (DEPS)

3. Export Promotion Capital Goods Scheme (EPCGS)

4. Loans From the Steel Development Fund (SDF)

5. Exemption of Export Credit From Interest Taxes

6. Advance Licenses

7. Income Tax Exemption Scheme (Section 80 HHC)

8. Loan Guarantees From the GOI

B. State of Maharashtra (SOM) Programs

1. Sales Tax Incentives

2. Capital Incentive Scheme

3. Electricity Duty Exemption Scheme

4. Octroi Refund Scheme

5. Exemption of Sales and Purchase Taxes for Certain Investments Related to Automobiles or Automobile Components

C. Program in the State of Bihar

1. Sales Tax Incentives

D. Programs in the State of Jharkhand

1. Sales Tax Incentives

2. Captive Electricity Generative Plant Subsidy

3. Interest Subsidy

4. Stamp Duty and Registration

5. Pollution Control Equipment Subsidy

6. Mega Units

7. Captive Electricity Tax Exemptions

E. Program in the State of Gujarat

1. Sales Tax Incentives

III. Total Ad Valorem Rate

IV. Recommendation

[FR Doc. 03-30389 Filed 12-5-03; 8:45 am]

BILLING CODE 3510-DS-P